DEPARTMENT OF HEALTH AND HUMAN SERVICES

National Institutes of Health

National Institute of Arthritis and Musculoskeletal and Skin Diseases; Notice of Closed Meeting

Pursuant to section 10(d) of the Federal Advisory Committee Act, as amended, notice is hereby given of a meeting of the Board of Scientific Counselors, NIAMS.

The meeting will be closed to the public as indicated below in accordance with the provisions set forth in section 552b(c)(6), title 5 U.S.C., as amended for the review, discussion, and evaluation of individual intramural programs and projects conducted by the NATIONAL INSTITUTE OF ARTHRITIS AND MUSCULOSKELETAL AND SKIN DISEASES, including consideration of personnel qualifications and performance, and the competence of individual investigators, the disclosure of which would constitute a clearly unwarranted invasion of personal privacy.

Name of Committee: Board of Scientific Counselors, NIAMS.

Date: May 2-3, 2023.

Closed: May 02, 2023, 2:00 p.m. to 4:00 p.m.

Agenda: To review and evaluate personnel qualifications and performance, and competence of individual investigators.

Place: Porter Neuroscience Research Center, Building 35A, 620/630, 35 Convent Drive, Bethesda, MD 20892.

Closed: May 03, 2023, 10:00 a.m. to 4:00 p.m.

Agenda: To review and evaluate personnel qualifications and performance, and competence of individual investigators.

Place: Porter Neuroscience Research Center, Building 35A, 620/630, 35 Convent Drive, Bethesda, MD 20892.

Contact Person: John J. O'Shea, MD, Scientific Director of Intramural Research, National Institute of Arthritis & Musculoskeletal and Skin Diseases, Building 10, Bethesda, MD 20892, (301) 496-2612, osheaj@mail.nih.gov.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Additional Health and Safety Guidance: Before attending a meeting at an NIH facility, it is important that visitors review the NIH COVID-19 Safety Plan at https://ors.od.nih.gov/sr/dohs/safety/NIH-covid-19-safety-plan/Pages/default.aspx and the NIH testing and assessment web page at https://ors.od.nih.gov/sr/dohs/safety/NIH-covid-19-safety-plan/COVID-assessment-testing/Pages/visitor-testing-requirement.aspx for information about requirements and procedures for entering NIH facilities, especially when COVID-19 community levels are medium or high. In addition, the Safer Federal Workforce website has FAQs for visitors at https://www.saferfederalworkforce.gov/faq/visitors/. Please note that if an individual has a COVID-19 diagnosis within 10 days of the meeting, that person must attend virtually. (For more information please read NIH's Requirements for Persons after Exposure at https://ors.od.nih.gov/sr/dohs/safety/NIH-covid-19-safety-plan/COVID-assessment-testing/Pages/persons-after-exposure.aspx and What Happens When Someone Tests Positive at https://ors.od.nih.gov/sr/dohs/safety/NIH-covid-19-safety-plan/COVID-assessment-testing/Pages/test-positive.aspx. Anyone from the public can attend the open portion of the meeting virtually via the NIH Videocasting website (http://videocast.nih.gov). Please continue checking these websites, in addition to the committee website listed below, for the most up to date guidance as the meeting date approaches.

(Catalogue of Federal Domestic Assistance Program Nos. 93.846, Arthritis, Musculoskeletal and Skin Diseases Research, National Institutes of Health, HHS)

Dated: April 4, 2023.
Miguelina Perez,
Program Analyst, Office of Federal Advisory Committee Policy.

[FR Doc. 2023-07403 Filed 4-7-23; 8:45 am]

BILLING CODE 4140-01-P